FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 009548-055.

Title: U.S. Atlantic and Gulf Ports/Eastern Mediterranean and North African Freight Conference.

Parties: Farrell Lines, Incorporated, Turkon Container Transports & Shipping Inc., Waterman Steamship Corporation.

Synopsis: The proposed modification deletes all provisions of the conference agreement except for Articles 1, 2, 3, 4, 5.1(K) and 9, which are retained to conclude conference business through May 15, 2001. At that time, the entire agreement will expire.

Agreement No.: 011744.

Title: Slot Allocation Agreement.

Parties: Dole Ocean Cargo Express, King Ocean Central America S.A.

Synopsis: Under the proposed agreement, Dole Express will make available to King Ocean 30 FEUs of space per voyage in the trade between Port Everglades, Florida and Puerto Moin, Costa Rica.

Dated: January 5, 2001.
By Order of the Federal Maritime Commission.
Bryant L. VanBrakle,
Secretary.

[FR Doc. 01-739 Filed 1-9-01; 8:45 am]

BILLING CODE 6730-01-P